DEPARTMENT OF DEFENSE

Office of the Secretary

[Transmittal No. 24-87]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-87, Policy Justification, and Sensitivity of Technology.

Dated: November 18, 2025.
Stephanie J. Bost,
Alternate OSD Federal Register Liaison Officer, Department of Defense.

BILLING CODE 6001-FR-P

BILLING CODE 6001-FR-C

Transmittal No. 24-87

Notice of Proposed Issuance of Letter of Offer Pursuant to Section 36(b)(1) of the Arms Export Control Act, as amended

(i) (U) Prospective Purchaser: Government of Italy

(ii) (U) Total Estimated Value:

Major Defense Equipment* | $212 million
Other | $526 million
TOTAL | $738 million

(iii) (U) Description and Quantity or Quantities of Articles or Services under Consideration for Purchase:

Major Defense Equipment (MDE):

Six (6) MQ-9 Block 5 Aircraft

Three (3) UAV MQ-9 Mobile Ground Control Stations (MGCS)

Twelve (12) AN/DAS-4 Multi-spectral Target Systems

Nine (9) LYNX AN/APY-8 Block 20A Synthetic Aperture Radars with Maritime Wide Area Surveillance (MWAS) capability

One (1) Embedded Global Positioning & Inertial Navigation System (EGI)

Non-Major Defense Equipment:

The following non-MDE items will also be included: Reaper/Predator engines; Ruggedized Aircraft Maintenance Test Stations (RAMTS); AN/ARC-210 UHF/VHF Radios (RT-2036); Ground Data Terminals (GDT) (line of sight link); AN/PYQ-10 Simple Key Loaders; KIV-77 Identification friend or foe Cryptographic Applique; Transponder Identification friend or foe AN/APX-119; KY100M Narrowband/Wideband terminal COMSEC device; UAV MQ-9 Fixed Ground Control System (FGCS); SATCOM Earth Terminal Subsystems (SETSS); precision navigation; integration and test support and equipment; aircraft or engine support equipment; spare parts, consumables and accessories, and repair and return support; major modifications, maintenance, and maintenance support; facilities and construction support; transportation and airlift support; classified and unclassified software delivery and support; classified and unclassified publications and technical documentation; personnel training and training equipment; special insurance and warranties; studies and surveys; U.S. Government and contractor engineering, technical and logistics support services; and other related elements of logistics and program support.

(iv) (U) Military Department: Air Force (IT-D-SAB)

(v) (U) Prior Related Cases, if any: IT-D-SAG

(vi) (U) Sales Commission, Fee, etc., Paid, Offered, or Agreed to be Paid: None known at this time

(vii) (U) Sensitivity of Technology Contained in the Defense Article or Defense Services Proposed to be Sold: See Attached Annex

(viii) (U) Date Report Delivered to Congress:

* as defined in Section 47(6) of the Arms Export Control Act.

Transmittal No. 24-87

Notice of Proposed Issuance of Letter of Offer Pursuant to Section 36(b)(1) of the Arms Export Control Act, as amended

(ix) Prospective Purchaser: Government of Canada

(x) Total Estimated Value:

Major Defense Equipment* | $219.9 million
Other | $ 44.7 million
TOTAL | $264.6 million

(xi) Description and Quantity or Quantities of Articles or Services under Consideration for Purchase:

Major Defense Equipment (MDE):

Forty-eight (48) AIM-9X Sidewinder Block II+ Tactical Missiles

One hundred twenty (120) AIM-9X Sidewinder Block II Tactical Missiles

Forty-eight (48) AIM-9X Sidewinder Block II Captive Air Training Missiles

Forty-eight (48) AIM-9X Sidewinder Block II Special Air Training Missiles

Four (4) AIM-9X Sidewinder Block II+ Tactical Guidance Units

Twelve (12) AIM-9X Sidewinder Block II Tactical Guidance Units

Eight (8) AIM-9X Sidewinder Block II Captive Air Training Guidance Units

Non-Major Defense Equipment:

The following non-MDE items will also be included: Active Optical Target Detectors; KGV-135A COMSEC chips; missile containers; training aids; spares; support equipment; training; missile software; United States (U.S.) Government and contractor technical, engineering, and logistical and program support; and other related elements of logistics and program support.

(xii) Military Department: Navy (CN-P-AQE)

(xiii) Prior Related Cases, if any: None

(xiv) Sales Commission, Fee, etc., Paid, Offered, or Agreed to be Paid: None

(xv) Sensitivity of Technology Contained in the Defense Article or Defense Services Proposed to be Sold: See Attached Annex

(xvi) Date Report Delivered to Congress: August 15, 2024

* as defined in Section 47(6) of the Arms Export Control Act.

POLICY JUSTIFICATION

Canada—AIM-9X Sidewinder Block II+ and Block II Tactical Missiles

The Government of Canada has requested to buy forty-eight (48) AIM-9X Sidewinder Block II+ Tactical Missiles; one hundred twenty (120) AIM-9X Sidewinder Block II Tactical Missiles; forty-eight (48) AIM-9X Sidewinder Block II Captive Air Training Missiles; forty-eight (48) AIM-9X Sidewinder Block II Special Air Training Missiles; four (4) AIM-9X Sidewinder Block II+ Tactical Guidance Units; twelve (12) AIM-9X Sidewinder Block II Tactical Guidance Units; and eight (8) AIM-9X Sidewinder Block II Guidance Units. The following non-MDE items will also be included: Active Optical Target Detectors; KGV-135A COMSEC chips; missile containers; training aids, spares; support equipment; training, missile software; and U.S. Government and contractor technical, engineering, logistical, and program support; and other related elements of logistics and program support. The estimated total cost is $264.6 million.

This proposed sale will support the foreign policy and national security objectives of the U.S. by helping to improve the military capability of a NATO Ally that is an important force for ensuring political stability and economic progress and is a contributor to military, peacekeeping, and humanitarian operations around the world.

The proposed sale will improve Canada's credible defense capability to deter aggression in the region, ensure interoperability with U.S. forces, and strengthen its homeland defense. Canada will have no difficulty absorbing this equipment into its armed forces.

The proposed sale of this equipment and support will not alter the basic military balance in the region.

The principal contractor will be RTX Corporation, located in Tucson, AZ. The purchaser typically requests offsets. Any offset agreement(s) will be defined in negotiations between the purchaser and the contractor.

Implementation of the proposed sale will require travel of four (4) U.S. Government and four (4) contractor representatives to Canada on a temporary basis in conjunction with program technical oversight and support requirements.

There will be no adverse impact on U.S. defense readiness as a result of this proposed sale.

Transmittal No. 24-87

Notice of Proposed Issuance of Letter of Offer Pursuant to Section 36(b)(1) of the Arms Export Control Act

Annex

Item No. vii

(vii) Sensitivity of Technology:

1. The AIM-9X Sidewinder Block II and Block II+ missile represents a substantial increase in missile acquisition and kinematics performance over the AIM-9M and replaces the AIM-9X Block I configuration. The missile includes a high off-boresight seeker, enhanced countermeasure rejection capability, low drag/high angle of attack airframe, and the ability to integrate the Helmet Mounted Cueing System. The most current AIM-9X Block II/II+ Operational Flight Software developed for all international partner countries, which is authorized for export by U.S. Government export policy, provides fifth-generation infrared capabilities such as Lock-On-After-Launch, Weapons Data Link, and Surface Launch. No software source code or algorithms will be released.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Canada can provide substantially the same degree of protection for the sensitive technology being released as the U.S. Government. This sale is necessary in furtherance of the U.S. foreign policy and national security objectives outlined in the Policy Justification.

5. All defense articles and services listed in this transmittal have been authorized for release and export to the Government of Canada.

[FR Doc. 2025-20508 Filed 11-20-25; 8:45 am]

BILLING CODE 6001-FR-P